ENVIRONMENTAL PROTECTION AGENCY

40 CFR Part 62

[EPA-RO4-OAR-2008-0159(a); FRL-8912-8]

Approval and Promulgation of State Plans for Designated Facilities and Pollutants; City of Memphis, TN; Control of Emissions From Existing Hospital/Medical/Infectious Waste Incinerators

AGENCY: Environmental Protection Agency (EPA).

ACTION: Proposed rule.

SUMMARY: EPA is proposing to approve the City of Memphis, Tennessee plan submitted by the Memphis and Shelby County Health Department (MSCHD) on February 16, 2006. The plan establishes emission limitations for Hospital/Medical/Infectious Waste Incinerators (HMIWI) for which construction commenced on or before June 20, 1996, and provides for the implementation and enforcement of those limitations.

In the final rules section of this Federal Register, the EPA is approving the State's request as a direct final rule without prior proposal because the Agency views this action as noncontroversial and anticipates no adverse comments. A detailed rationale for approving the State's request is set forth in the direct final rule. The direct final rule will become effective without further notice unless EPA receives relevant adverse written comment on this action. Should the EPA receive such comment, it will publish a final rule informing the public that the direct final rule will not take effect and such public comment received will be addressed in a subsequent final rule based on this proposed rule. If no adverse written comments are received, the direct final rule will take effect on the date stated in that document and no further activity will be taken on this proposed rule. EPA does not plan to institute a second comment period on this action. Any parties interested in commenting on this action should do so at this time.

DATES: Written comments must be received on or before July 10, 2009.

ADDRESSES: Submit your comments, identified by Docket ID No. EPA-R04-OAR-2008-0159 by one of the following methods:

1. http://www.regulations.gov: Follow the online instructions for submitting comments.

2. E-mail: louis.egide@epa.gov.

3. Fax: (404) 562-9095.

4. Mail: “EPA-R04-OAR-2008-0159” Air Toxics Assessment and Implementation Section, Air Toxics and Monitoring Branch, Air, Pesticides and Toxics Management Division, U.S. Environmental Protection Agency, Region 4, 61 Forsyth Street, SW., Atlanta, Georgia 30303-8960.

5. Hand Delivery or Courier: Dr. Egide N. Louis, Air Toxics Assessment and Implementation Section, Air Toxics and Monitoring Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Dr. Egide Louis, Air Toxics Assessment and Implementation Section, Air Toxics and Monitoring Branch, Air, Pesticides and Toxics Management Division, U.S. Environmental Protection Agency, Region 4, 61 Forsyth Street, SW., Atlanta, Georgia 30303-8960. The telephone number is (404) 562-9240. Dr. Louis can also be reached via electronic mail at louis.egide@epa.gov.

SUPPLEMENTARY INFORMATION: For additional information see the direct final rule which is published in the Rules Section of this Federal Register.

Dated: April 10, 2009.
Beverly H. Banister,
Acting Regional Administrator, Region 4.

[FR Doc. E9-13596 Filed 6-9-09; 8:45 am]

BILLING CODE 6560-50-P